SECURITIES AND EXCHANGE COMMISSION

In the Matter of One Voice Technologies, Inc., Orchestra Therapeutics, Inc., Path 1 Network Technologies, Inc., Pavilion Energy Resources, Inc. (f/k/a Global Business Services, Inc.), Pine Valley Mining Corp., Platina Energy Group, Inc., Pop N Go, Inc., and Powercold Corp., File No. 500-1; Order of Suspension of Trading

May 8, 2012.

It appears to the Securities and Exchange Commission that there is a lack of current and accurate information concerning the securities of One Voice Technologies, Inc. because it has not filed any periodic reports since the period ended September 30, 2009.

It appears to the Securities and Exchange Commission that there is a lack of current and accurate information concerning the securities of Orchestra Therapeutics, Inc. because it has not filed any periodic reports since the period ended June 30, 2007.

It appears to the Securities and Exchange Commission that there is a lack of current and accurate information concerning the securities of Path 1 Network Technologies, Inc. because it has not filed any periodic reports since the period ended September 30, 2006.

It appears to the Securities and Exchange Commission that there is a lack of current and accurate information concerning the securities of Pavilion Energy Resources, Inc. (f/k/a Global Business Services, Inc.) because it has not filed any periodic reports between the periods ended June 30, 2005 and June 30, 2009.

It appears to the Securities and Exchange Commission that there is a lack of current and accurate information concerning the securities of Pine Valley Mining Corp. because it has not filed any periodic reports since the period ended March 31, 2006.

It appears to the Securities and Exchange Commission that there is a lack of current and accurate information concerning the securities of Platina Energy Group, Inc. because it has not filed any periodic reports since the period ended September 30, 2008.

It appears to the Securities and Exchange Commission that there is a lack of current and accurate information concerning the securities of Pop N Go, Inc. because it has not filed any periodic reports since the period ended June 30, 2008.

It appears to the Securities and Exchange Commission that there is a lack of current and accurate information concerning the securities of Powercold Corp. because it has not filed any periodic reports since the period ended September 30, 2005.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 8, 2012, through 11:59 p.m. EDT on May 21, 2012.

By the Commission.
Elizabeth M. Murphy,
Secretary.

[FR Doc. 2012-11403 Filed 5-8-12; 4:15 pm]

BILLING CODE 8011-01-P